DEPARTMENT OF AGRICULTURE

Rogue/Umpqua Resource Advisory Committee (RAC)

AGENCY: Forest Service, USDA.

ACTION: Action of meeting.

SUMMARY: The Rogue/Umpqua Resource Advisory Committee (RAC) will meet on Thursday and Friday, July 14 and 15, 2005, at 1215 SW. G Street in Grants Pass, Oregon. The purpose of the meeting is to review and make recommendations for funding fiscal year 2006 projects with Title II funds from the Secure Rural Schools and Community Self-Determination Act of 2000. Presentations for projects in Klamath, Jackson and Josephine counties will occur on Thursday. Presentations for projects in Douglas and Lane counties will take place on Friday. The RAC will also be updated on the status of projects from the last four years. The meetings are scheduled to begin at 8 a.m. and conclude at approximately 5 p.m. each day. Public comments are welcome between approximately 9:50 a.m. to 10:20 a.m. on Thursday and at approximately 10 a.m. to 10:30 a.m. on Friday. Written public comments may be submitted prior to the meetings by sending them to Designated Federal Official Jim Caplan at the address given below.

FOR FURTHER INFORMATION CONTACT: For more information regarding these meetings, contact Designated Federal Official Jim Caplan; Umpqua National Forest; 2900 NW. Stewart Parkway, Roseburg, Oregon 97470; (541) 672-6601.

Dated: June 7, 2005.
Cheryl R. Walters,
Acting Forest Supervisor, Umpqua National Forest.

[FR Doc. 05-11616 Filed 6-10-05; 8:45 am]

BILLING CODE 3410-11-M